DEPARTMENT OF HOMELAND SECURITY

Federal Emergency Management Agency

44 CFR Part 67

[Docket ID FEMA-2010-0003; Internal Agency Docket No. FEMA-B-1168]

Proposed Flood Elevation Determinations

AGENCY: Federal Emergency Management Agency, DHS.

ACTION: Proposed rule; correction.

SUMMARY: On December 7, 2010, FEMA published in the Federal Register a proposed rule that contained an erroneous table. This notice provides corrections to that table, to be used in lieu of the information published at 75 FR 75945. The table provided here represents the flooding sources, location of referenced elevations, effective and modified elevations, and communities affected for Skagit County, Washington and Incorporated Areas. Specifically, it addresses the following flooding sources: Left Bank Overflow Main Stem Skagit River, Left Bank Overflow Main Stem Skagit River/South Fork Skagit River, Left Bank Overflow North Fork Skagit River, Main Stem Skagit River, North Fork Skagit River, Overflow from the Main Stem Skagit River between the North Fork Skagit River and the South Fork Skagit River, Padilla Bay, Right Bank Overflow Main Stem Skagit River, Right Bank Overflow Main Stem Skagit River/North Fork Skagit River, Right Bank Overflow North Fork Skagit River, Right Bank Overflow South Fork Skagit River, Samish Bay, Samish Bay/Padilla Bay, Simlik Bay, Skagit Bay, Skagit Bay/Swinomish Channel, Skagit River, Skagit River Delta Overbank Flowpath 1, Skagit River Delta Overbank Flowpath 2, Skagit River Delta Overbank Flowpath 3, South Fork Skagit River, and Swinomish Channel.

DATES: Comments are to be submitted on or before June 13, 2011.

ADDRESSES: You may submit comments, identified by Docket No. FEMA-B-1168, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 75945, in the December 7, 2010, issue of the Federal Register, FEMA published a table under the authority of 44 CFR 67.4. The table, entitled “Skagit County, Washington, and Incorporated Areas” addressed the following flooding sources: Left Bank Overflow Main Stem Skagit River, Left Bank Overflow Main Stem Skagit River/South Fork Skagit River, Left Bank Overflow North Fork Skagit River, Main Stem Skagit River, North Fork Skagit River, Overflow from the Main Stem Skagit River between the North Fork Skagit River and the South Fork Skagit River, Padilla Bay, Right Bank Overflow Main Stem Skagit River, Right Bank Overflow Main Stem Skagit River/North Fork Skagit River, Right Bank Overflow North Fork Skagit River, Right Bank Overflow South Fork Skagit River, Samish Bay, Samish Bay/Padilla Bay, Simlik Bay, Skagit Bay, Skagit Bay/Swinomish Channel, Skagit River, Skagit River Delta Overbank Flowpath 1, Skagit River Delta Overbank Flowpath 2, Skagit River Delta Overbank Flowpath 3, South Fork Skagit River, and Swinomish Channel. That table contained inaccurate information as to the location of referenced elevation, effective and modified elevation in feet, and/or communities affected for these flooding sources. It also contained erroneous map repository addresses for the City of Burlington, the City of Sedro-Woolley, the Swinomish Indian Tribal Community, and the Town of Lyman. There were also some table formatting and alignment errors. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Skagit County, Washington, and Incorporated Areas
Left Bank Overflow Main Stem Skagit River | Approximately 1,400 feet north of the intersection of Hickox Road and I-5 | #2 | +23 | City of Mount Vernon, Unincorporated Areas of Skagit County.
| Approximately 300 feet west of the intersection of Anderson Road and Old Highway 99 | #2 | +24
Left Bank Overflow Main Stem Skagit River | Approximately 0.43 mile east of the intersection of Dike Road and Britt Road | +19 | +24 | City of Mount Vernon, Unincorporated Areas of Skagit County.
| Approximately 1,500 feet west of the intersection of Riverview Lane and Dike Road | +19 | +27
Left Bank Overflow Main Stem Skagit River | Just northwest of the intersection of Britt Road and Dike Road | #3 | +26 | City of Mount Vernon, Unincorporated Areas of Skagit County.
| Approximately 250 feet north of Dike Road and approximately 1,000 feet west of Riverview Lane | #3 | +28
Left Bank Overflow Main Stem Skagit River | Approximately 900 feet north of Blackburn Road between 2nd Street and 3rd Street | #1 | +25 | City of Mount Vernon, Unincorporated Areas of Skagit County.
| At the intersection of Freeway Drive and Cameron Way | #1 | +39
Left Bank Overflow Main Stem Skagit River | Just north of Stewart Road between Riverside Drive and the Burlington Northern Railroad | #3 | +41 | City of Mount Vernon.
| Just northwest of the intersection of Hoag Road and the Burlington Northern Railroad | #3 | +42
Left Bank Overflow Main Stem Skagit River | Approximately 1.4 miles west of the intersection of I-5 and State Route 538, at levee | +34 | +40 | City of Mount Vernon, Unincorporated Areas of Skagit County.
| At the intersection of the Burlington Northern Railroad and State Route 538 | +34 | +40
Left Bank Overflow Main Stem Skagit River | Just north of the intersection of Hickox Road and Dike Road | None | +24 | City of Mount Vernon, Unincorporated Areas of Skagit County.
| Approximately 640 feet west of the intersection of Riverview Lane and Dike Road | None | +27
Left Bank Overflow Main Stem Skagit River | At the intersection of I-5 and Anderson Road | None | +24 | City of Mount Vernon.
| At the intersection of I-5 and Section Street | None | +28
Left Bank Overflow Main Stem Skagit River/South Fork Skagit River | Just north of Fir Island Road, at the intersection with the Burlington Northern Railroad | #3 | +20 | City of Mount Vernon, Unincorporated Areas of Skagit County.
| Approximately 500 feet south of Hickox Road between the levee and the Burlington Northern Railroad | #3 | +23
Left Bank Overflow Main Stem Skagit River/South Fork Skagit River | Approximately 0.75 mile south of the intersection of Milltown Road and Pioneer Highway | +13 | +16 | Unincorporated Areas of Skagit County.
| At the intersection of State Route 534 and I-5 | +13 | +20
Left Bank Overflow North Fork Skagit River | Just east of the levee, approximately 350 feet northeast of the intersection of Moore Road and Polson Road | #1 | +16 | Unincorporated Areas of Skagit County.
| Just east of the levee, approximately 450 feet north of Moore Road | #1 | +18
Main Stem Skagit River | At the confluence with the North Fork Skagit River and South Fork Skagit River | +27 | +30 | City of Burlington, City of Mount Vernon, City of Sedro-Woolley, Town of La Conner, Unincorporated Areas of Skagit County.
| Just downstream of the Burlington Northern Railroad | +49 | +52
North Fork Skagit River | At the confluence with Skagit Bay | +14 | +16 | Unincorporated Areas of Skagit County.
| At the confluence with the Main Stem Skagit River and South Fork Skagit River | +27 | +30
Overflow from the Main Stem Skagit River between the North Fork Skagit River and the South Fork Skagit River | At the confluence with Skagit Bay | +12 | +14 | Unincorporated Areas of Skagit County.
| At the intersection of Moore Road and Dry Slough Road | +13 | +18
Overflow from the Main Stem Skagit River between the North Fork Skagit River and the South Fork Skagit River | Approximately 200 feet north of Moore Road between the North Fork Skagit River and Dry Slough Road | #3 | +18 | Unincorporated Areas of Skagit County.
| Approximately 880 feet southwest of the confluence with North Fork Skagit River and the South Fork Skagit River | #3 | +21
Padilla Bay | Approximately 1,000 feet northwest of the intersection of Highway 20 and Padilla Heights Road | None | +13 | Swinomish Indian Tribal Community.
| Approximately 100 feet north of the crossing at State Route 20 and the Swinomish Channel | None | +13
Right Bank Overflow Main Stem Skagit River | Approximately 0.36 mile west of the intersection of Penn Road and Calhoun Road | #3 | +21 | City of Mount Vernon, Unincorporated Areas of Skagit County.
| Approximately 400 feet south of the levee between Moores Garden Road and Baker Street | #3 | +30
Right Bank Overflow Main Stem Skagit River | Approximately 300 feet north of the intersection of Dunbar Avenue and Avon Allen Road | #3 | +24 | Unincorporated Areas of Skagit County.
| Approximately 500 feet east of Avon Allen Road between Bennett Road and State Route 536 | #3 | +31
Right Bank Overflow Main Stem Skagit River | Approximately 400 feet northeast of the intersection of Bennett Road and State Route 536 | #3 | +25 | Unincorporated Areas of Skagit County.
| Approximately 500 feet southeast of the intersection of Bennett Road and Silver Lane | #3 | +34
Right Bank Overflow Main Stem Skagit River | Approximately 400 feet west of the intersection of Pulver Road and McCorquedale Road | #3 | +32 | Unincorporated Areas of Skagit County.
| Approximately 400 feet east of Pulver Road between Whitemarsh Road and McCorquedale Road | #3 | +34
Right Bank Overflow Main Stem Skagit River/North Fork Skagit River | At Kamb Road approximately 0.47 mile south of Calhoun Road | #3 | +19 | Unincorporated Areas of Skagit County.
| Approximately 0.38 mile southeast of the intersection of Calhoun Road and Kamb Road | #3 | +20
Right Bank Overflow North Fork Skagit River | Just south of Kamb Road approximately 0.66 mile east of Beaver Marsh Road | #3 | +19 | Unincorporated Areas of Skagit County.
| Approximately 1,600 feet east of the intersection of Beaver Marsh Road and Marsh Road | #3 | +19
Right Bank Overflow South Fork Skagit River | Between Moore Road and Polson Road | #1 | +17 | Unincorporated Areas of Skagit County.
| Approximately 870 feet south of Moore Road, at levee | #1 | +18
Samish Bay | At the intersection of Chuckanut Drive and South Blanchard Drive | +12 | +13 | Unincorporated Areas of Skagit County.
Samish Bay/Padilla Bay | At the intersection of Bayview-Edison Road and Samish Island Road | +12 | +13 | Unincorporated Areas of Skagit County.
Simlik Bay | Approximately 0.32 mile southwest of the intersection of Snee-Oosh Road and Snee-Oosh Lane | None | +12 | Swinomish Indian Tribal Community.
| Approximately 100 feet southwest of the intersection of Reservation Road and Simlik Bay Road | None | +12
Skagit Bay | Approximately 0.36 mile northwest of the intersection of Pioneer Highway and Milltown Road | +15 | +14 | Unincorporated Areas of Skagit County.
| At the confluence of Ishois Slough and Tom Moore Slough | +17 | +14
Skagit Bay | Approximately 200 feet northwest of the intersection of Sherman Avenue and Chilberg Avenue | None | +12 | Swinomish Indian Tribal Community.
| Approximately 0.32 mile southwest of the intersection of Snee-Oosh Road and Snee-Oosh Lane | None | +12
Skagit Bay | Approximately 400 feet northwest of Pull and Be Damned Point Road | None | +14 | Swinomish Indian Tribal Community.
| Approximately 200 feet southwest of the intersection of Sherman Avenue and Chilberg Avenue | None | +14
Skagit Bay/Swinomish Channel | Approximately 600 feet southwest of the intersection of North Pearle Jensen Way and East Pearle Jensen Way | None | +12 | Swinomish Indian Tribal Community.
| Approximately 400 feet west of Pull and Be Damned Point Road | None | +12
Skagit River | Just upstream of the Burlington Northern Railroad | +49 | +52 | City of Sedro-Woolley, Town of Concrete, Town of Hamilton, Town of Lyman, Unincorporated Areas of Skagit County.
| Approximately 1.0 mile upstream of the confluence with the Baker River | +197 | +198
Skagit River Delta Overbank Flowpath 1 | Just upstream of Pulver Road | +27 | +32 | City of Burlington, Unincorporated Areas of Skagit County.
| Approximately 1,170 feet southeast of the intersection of Lafayette Road and Peter Anderson Road | +45 | +46
Skagit River Delta Overbank Flowpath 2 | At the confluence with Samish Bay | +12 | +13 | Unincorporated Areas of Skagit County.
| Just downstream of Pulver Road | +27 | +32
Skagit River Delta Overbank Flowpath 3 | At the confluence with the Swinomish Channel | +12 | +15 | Town of La Conner, Unincorporated Areas of Skagit County.
| Just downstream of Pulver Road | +27 | +32
South Fork Skagit River | At the confluence with Ishois Slough and Tim Moore Slough | +17 | +14 | Unincorporated Areas of Skagit County.
| At the confluence with the Main Stem Skagit River and the North Fork Skagit River | +27 | +30
Swinomish Channel | Just north of Highway 20 | None | +11 | Swinomish Indian Tribal Community.
| Approximately 600 feet northwest of the intersection of North Pearle Jensen Way and East Pearle Jensen Way | None | +11
* National Geodetic Vertical Datum.
+ North American Vertical Datum.
# Depth in feet above ground.
‸ Mean Sea Level, rounded to the nearest 0.1 meter.
* * BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Burlington
Maps are available for inspection at City Hall, 833 South Spruce Street, Burlington, WA 98233.
City of Mount Vernon
Maps are available for inspection at City Hall, 910 Cleveland Avenue, Mount Vernon, WA 98273.
City of Sedro-Woolley
Maps are available for inspection at the Planning and Building Department, City Hall, 325 Metcalf Street, Sedro-Woolley, WA 98284.
Swinomish Indian Tribal Community
Maps are available for inspection at 11404 Moorage Way, La Conner, WA 98257.
Town of Concrete
Maps are available for inspection at the Town Hall, 45672 Main Street, Concrete, WA 98237.
Town of Hamilton
Maps are available for inspection at the Town Hall, 584 Maple Street, Hamilton, WA 98255.
Town of La Conner
Maps are available for inspection at the Town Hall, 204 Douglas Street, La Conner, WA 98257.
Town of Lyman
Maps are available for inspection at the Town Hall, 8405 South Main Street, Lyman, WA 98263.
Unincorporated Areas of Skagit County
Maps are available for inspection at the Skagit County Department of Planning and Developmental Services, 1800 Continental Place, Mount Vernon, WA 98273.

(Catalog of Federal Domestic Assistance No. 97.022, “Flood Insurance.”)

Dated: February 7, 2011.
Sandra K. Knight,
Deputy Federal Insurance and Mitigation Administrator, Mitigation, Department of Homeland Security, Federal Emergency Management Agency.

[FR Doc. 2011-5828 Filed 3-11-11; 8:45 am]

BILLING CODE 9110-12-P